DEPARTMENT OF JUSTICE

Antitrust Division

Notice Pursuant to the National Cooperative Research and Production Act of 1993—FieldComm Group, Inc.

Notice is hereby given that, on December 8, 2014, pursuant to section 6(a) of the National Cooperative Research and Production Act of 1993, 15 U.S.C. 4301 et seq. (“the Act”), FieldComm Group, Inc. (“FieldComm”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: FieldComm Group, Inc., Austin, TX. The nature and scope of FieldComm's standards development activities are: To build upon existing technologies and develop a single future vision toward harmonization of standards for the process automation industry worldwide. FieldComm will combine the standards development activity previously conducted under the auspices of the HART® Communication Foundation and the Fieldbus Foundation.

The formal transfer to FieldComm of all or substantially all the assets and liabilities of the HART® Communication Foundation and the Fieldbus Foundation was approved by both organizations' boards on August 30, 2014, and will become effective on or before January 1, 2015. The two organizations will operate independently until that time, but will engage in integration planning activities for the transition to FieldComm. Upon completion of such transfers to FieldComm by the two organizations and subject to any other residual state or federal law obligations, both organizations are then expected to cease doing business and will be legally dissolved in early 2015.

Patricia A. Brink,
Director of Civil Enforcement, Antitrust Division.

[FR Doc. 2014-30787 Filed 1-2-15; 8:45 am]

BILLING CODE P